DEPARTMENT OF ENERGY

Federal Energy Regulatory Commission

[Project No. 2216-066]

Niagara Project; Notice of Availability of the Final Environmental Impact Statement for the Niagara Project

December 29, 2006.

In accordance with the National Environmental Policy Act of 1969 and the Federal Energy Regulatory Commission (Commission or FERC) regulations contained in the Code of Federal Regulations (CFR) (18 CFR Part 380 [FERC Order No. 486, 52 FR 47897]), the Office of Energy Projects staff (staff) reviewed the application for a New Major License for the Niagara Project, and prepared a final environmental impact statement (FEIS) for the project which is located on the Niagara River in Niagara County, New York.

The FEIS contains staff's analysis of the applicant's proposal and the alternatives for relicensing the Niagara Project. The FEIS documents the views of governmental agencies, non-governmental organizations, affected Indian tribes, the public, the license applicant, and Commission staff.

A copy of the FEIS is available for review in the Commission's Public Reference Branch, Room 2A, located at 888 First Street, NE., Washington, DC 20426. The FEIS also may be viewed on the Commission's Web site at http://www.ferc.gov under the eLibrary link. Enter the docket number excluding the last three digits in the docket number field to access the document. For assistance, contact FERC Online Support at FERCOnlineSupport@ferc.gov or toll-free at (866) 208-3676, or for TTY, (202) 502-8659.

You may also register online at www.ferc.gov/docs-filing/esubscription.asp to be notified via e-mail of new filings and issuances related to this or other pending projects. For assistance, contact FERC Online Support.

For further information, contact Steve Kartalia at (202) 502-6131 or at Stephen.Kartalia@ferc.gov.

Magalie R. Salas,
Secretary.

[FR Doc. E6-22690 Filed 1-5-07; 8:45 am]

BILLING CODE 6717-01-P